DEPARTMENT OF ENERGY

Federal Energy Regulatory Commission

Combined Notice of Filings

Take notice that the Commission has received the following Natural Gas & Oil Pipeline Rate and Refund Report filings:

Filings Instituting Proceedings

Docket Numbers: RP23-601-000.

Applicants: El Paso Natural Gas Company, L.L.C.

Description: § 4(d) Rate Filing: Non-Conforming Agreement Filing (JBS Tolleson) to be effective 5/1/2023.

Filed Date: 3/28/23.

Accession Number: 20230328-5187.

Comment Date: 5 p.m. ET 4/10/23.

Docket Numbers: RP23-602-000.

Applicants: El Paso Natural Gas Company, L.L.C.

Description: § 4(d) Rate Filing: Negotiated Rate Agreement Update (TEP May 23) to be effective 5/1/2023.

Filed Date: 3/29/23.

Accession Number: 20230329-5067.

Comment Date: 5 p.m. ET 4/10/23.

Docket Numbers: RP23-603-000.

Applicants: Colorado Interstate Gas Company, L.L.C.

Description: § 4(d) Rate Filing: Negotiated Rate Agreement Filing (TMV Apr 23) to be effective 4/1/2023.

Filed Date: 3/29/23.

Accession Number: 20230329-5081.

Comment Date: 5 p.m. ET 4/10/23.

Docket Numbers: RP23-604-000.

Applicants: Trunkline Gas Company, LLC.

Description: § 4(d) Rate Filing: Non-Conforming NRA with FP&L to be effective 4/1/2023.

Filed Date: 3/29/23.

Accession Number: 20230329-5102.

Comment Date: 5 p.m. ET 4/10/23.

Docket Numbers: RP23-605-000.

Applicants: Trunkline Gas Company, LLC.

Description: § 4(d) Rate Filing: Non-Conforming List Update—FP&L to be effective 4/1/2023.

Filed Date: 3/29/23.

Accession Number: 20230329-5103.

Comment Date: 5 p.m. ET 4/10/23.

Docket Numbers: RP23-606-000.

Applicants: El Paso Natural Gas Company, L.L.C.

Description: § 4(d) Rate Filing: Negotiated Rate Agreement Update (SoCal Apr 2023) to be effective 4/1/2023.

Filed Date: 3/29/23.

Accession Number: 20230329-5126.

Comment Date: 5 p.m. ET 4/10/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2023.
Debbie-Anne A. Reese,
Deputy Secretary.

[FR Doc. 2023-06983 Filed 4-3-23; 8:45 am]

BILLING CODE 6717-01-P